NATIONAL SCIENCE FOUNDATION

Sunshine Act Meeting; National Science Board

The National Science Board's Executive Committee (EC), pursuant to National Science Foundation regulations (45 CFR part 614), the National Science Foundation Act, as amended (42 U.S.C. 1862n-5), and the Government in the Sunshine Act (5 U.S.C. 552b), hereby gives notice that a teleconference for the transaction of National Science Board business was held during the partial governmentwide shut down:

TIME AND DATE: January 15, 2019, from 4:00-5:00 p.m. EST.

PLACE: The meeting took place by teleconference. Because of the restrictions associated with the partial governmentwide shutdown, no public listening line could be opened. A transcript of the teleconference will be made available upon request.

STATUS: Open.

MATTERS TO BE CONSIDERED: Director's opening remarks; discuss issues and topics for an agenda of the NSB meeting scheduled for February 12, 2019.

CONTACT PERSON FOR MORE INFORMATION: Point of contact for this meeting is: James Hamos, 2415 Eisenhower Avenue, Alexandria, VA 22314. Telephone: 703/292-8000. Please refer to the National Science Board website at www.nsf.gov/nsb.

Chris Blair,
Executive Assistant to the National Science Board Office.

[FR Doc. 2019-07204 Filed 4-8-19; 4:15 pm]

BILLING CODE 7555-01-P